FEDERAL COMMUNICATIONS COMMISSION

47 CFR Parts 1, 2, and 25

[ET Docket No. 10-142; Report 2932]

Fixed and Mobile Services in the Mobile Satellite Service Bands at 1525-1559 MHz and 1626.5-1660.5 MHz, 1610-1626.5 MHz and 2483.5-2500 MHz, and 2000-2020 MHz and 2180-2200 MHz; Petition for Reconsideration

AGENCY: Federal Communication Commission.

ACTION: Final rule; petition for reconsideration

SUMMARY: In this document, Petitions for Reconsideration (Petitions) have been filed in the Commission's rulemaking proceeding concerning Fixed and Mobile Services in the Mobile Satellite Service Bands at 1525-1559 MHz and 1626.5-1660.5 MHz, 1610-1626.5 MHz and 2483.5-2500 MHz, and 2000-2020 MHz and 2180-2200 MHz and published pursuant to 47 CFR 1.429(e). See 1.4(b)(1) of the Commission's rules, 47 CFR 1.4(b)(1).

DATES: Oppositions to the Petitions must be filed by August 25, 2011. Replies to an opposition must be filed by September 6, 2011.

ADDRESSES: Federal Communications Commission, 445 12th Street, SW., Washington, DC 20554.

FOR FURTHER INFORMATION CONTACT: Kevin Holmes, Wireless Telecommunications Bureau, 202-418-0564.

SUPPLEMENTARY INFORMATION: On April 6, 2011, the Commission, via the Office of Engineering and Technology Bureau released In the Matter of Fixed and Mobile Services in the Mobile Satellite Service Bands at 1525-1559 MHz and 1626.5-1660.5 MHz, 1610-1626.5 MHz and 2483.5-2500 MHz, and 2000-2020 MHz and 2180-2200 MHz, FCC 11-57, Report and Order, adopted April 5, 2011, published at 76 FR 31252, May 31, 2011. This is a summary of the Commission's document, Report No. 2932, released July 29, 2011. The full text of document Report No. 2932 is available for viewing and copying in Room CY-B402, 445 12th Street, SW., Washington, DC or may be purchased from the Commission's copy contractor, Best Copy and Printing, Inc. (BCPI) (1-800-378-3160). The Commission will not send a copy of document Report No. 2932 pursuant to the Congressional Review Act, 5 U.S.C. 801(a)(1)(A), because it does not have an impact on any rules of particular applicability.

Subject: In the Matter of Fixed and Mobile Services in the Mobile Satellite Service Bands at 1525-1559 MHz and 1626.5-1660.5 MHz, 1610-1626.5 MHz and 2483.5-2500 MHz, and 2000-2020 MHz and 2180-2200 MHz (ET Docket No. 10-142).

Number of Petitions Filed: 3.

Federal Communications Commission.
Marlene H. Dortch,
Secretary, Office of the Secretary, Office of Managing Director.

[FR Doc. 2011-20313 Filed 8-9-11; 8:45 am]

BILLING CODE 6712-01-P